SECURITIES AND EXCHANGE COMMISSION

Investment Company Act Release No. 35362; File No. 812-15563; AFA Private Credit Fund, et al.

October 17, 2024.

AGENCY: Securities and Exchange Commission (“Commission” or “SEC”).

ACTION: Notice.

SUMMARY: Notice of application for an order (“Order”) under sections 17(d) and 57(i) of the Investment Company Act of 1940 (the “Act”) and rule 17d-1 under the Act to permit certain joint transactions otherwise prohibited by sections 17(d) and 57(a)(4) of the Act and rule 17d-1 under the Act.

ADDRESSES: The Commission: Secretarys-Office@sec.gov. Applicants: Marco Hanig, Alternative Fund Advisors LLC, marco.hanig@alternativefundadvisors.com; and Joshua B. Deringer, Esq. and Veena K. Jain, Esq., Faegre Drinker Biddle & Reath LLP, at joshua.deringer@faegredrinker.com and veena.jain@faegredrinker.com, respectively.

FOR FURTHER INFORMATION CONTACT: Chris Chase, Senior Counsel, or Lisa Reid Ragen, Branch Chief, at (202) 551-6825 (Division of Investment Management, Chief Counsel's Office).

SUPPLEMENTARY INFORMATION:

Summary of Application: Applicants request an order to permit certain business development companies and closed-end management investment companies to co-invest in portfolio companies with each other and with certain affiliated investment entities.

Applicants: AFA Private Credit Fund; Alternative Fund Advisors LLC; and AFA Private Credit LP.

Filing Dates: The application was filed on April 12, 2024, and amended on July 23, 2024.

Hearing or Notification of Hearing: An order granting the requested relief will be issued unless the Commission orders a hearing. Interested persons may request a hearing on any application by emailing the SEC's Secretary at Secretarys-Office@sec.gov and serving the Applicants with a copy of the request by email, if an email address is listed for the relevant Applicant below, or personally or by mail, if a physical address is listed for the relevant Applicant below. Hearing requests should be received by the Commission by 5:30 p.m. on November 11, 2024, and should be accompanied by proof of service on applicants, in the form of an affidavit or, for lawyers, a certificate of service. Pursuant to rule 0-5 under the Act, hearing requests should state the nature of the writer's interest, any facts bearing upon the desirability of a hearing on the matter, the reason for the request, and the issues contested. Persons who wish to be notified of a hearing may request notification by emailing the Commission's Secretary at SecretarysOffice@sec.gov.

For Applicants' representations, legal analysis, and conditions, please refer to Applicants' first amended and restated application, dated July 23, 2024, which may be obtained via the Commission's website by searching for the file number at the top of this document, or for an Applicant using the Company name search field, on the SEC's EDGAR system. The SEC's EDGAR system may be searched at, at http://www.sec.gov/edgar/searchedgar/legacy/companysearch.html. You may also call the SEC's Public Reference Room at (202) 551-8090.

For the Commission, by the Division of Investment Management, under delegated authority.
Sherry R. Haywood,
Assistant Secretary.

[FR Doc. 2024-24459 Filed 10-21-24; 8:45 am]

BILLING CODE 8011-01-P